DEPARTMENT OF HOMELAND SECURITY

Federal Emergency Management Agency

44 CFR Part 67

Final Flood Elevation Determinations

AGENCY: Federal Emergency Management Agency (FEMA), Emergency Preparedness and Response Directorate, Department of Homeland Security.

ACTION: Final rule.

SUMMARY: Base (1% annual chance) Flood Elevations (BFEs) and modified BFEs are made final for the communities listed below. The base flood elevations and modified BFEs are the basis for the floodplain management measures that each community is required either to adopt or to show evidence of being already in effect in order to qualify or remain qualified for participation in the National Flood Insurance Program (NFIP).

EFFECTIVE DATES: The date of issuance of the Flood Insurance Rate Map (FIRM) showing BFEs and modified BFEs for each community. This date may be obtained by contacting the office where the maps are available for inspection as indicated on the table below.

ADDRESSES: The final BFEs for each community are available for inspection at the office of the Chief Executive Officer of each community. The respective addresses are listed in the table below.

FOR FURTHER INFORMATION CONTACT: Doug Bellomo, P.E., Hazard Identification Section, Emergency Preparedness and Response Directorate, FEMA, 500 C Street SW., Washington, DC 20472, (202) 646-2903.

SUPPLEMENTARY INFORMATION: FEMA makes the final determinations listed below for the modified BFEs for each community listed. These modified elevations have been published in newspapers of local circulation and ninety (90) days have elapsed since that publication. The Mitigation Division Director of the Emergency Preparedness and Response Directorate, has resolved any appeals resulting from this notification.

This final rule is issued in accordance with section 110 of the Flood Disaster Protection Act of 1973, 42 U.S.C. 4104, and 44 CFR part 67.

The Agency has developed criteria for floodplain management in floodprone areas in accordance with 44 CFR part 60.

Interested lessees and owners of real property are encouraged to review the proof Flood Insurance Study and FIRM available at the address cited below for each community.

The BFEs and modified BFEs are made final in the communities listed below. Elevations at selected locations in each community are shown.

National Environmental Policy Act

This rule is categorically excluded from the requirements of 44 CFR Part 10, Environmental Consideration. No environmental impact assessment has been prepared.

Regulatory Flexibility Act

The Mitigation Division Director of the Emergency Preparedness and Response Directorate certifies that this rule is exempt from the requirements of the Regulatory Flexibility Act because final or modified BFEs are required by the Flood Disaster Protection Act of 1973, 42 U.S.C. 4104, and are required to establish and maintain community eligibility in the NFIP. No regulatory flexibility analysis has been prepared.

Regulatory Classification

This final rule is not a significant regulatory action under the criteria of section 3(f) of Executive Order 12866 of September 30, 1993, Regulatory Planning and Review, 58 FR 51735.

Executive Order 12612, Federalism

This rule involves no policies that have federalism implications under Executive Order 12612, Federalism, dated October 26, 1987.

Executive Order 12778, Civil Justice Reform

This rule meets the applicable standards of section 2(b)(2) of Executive Order 12778.

List of Subjects in 44 CFR Part 67

Administrative practice and procedure, Flood insurance, Reporting and recordkeeping requirements.

Accordingly, 44 CFR Part 67 is amended as follows:

PART 67—[AMENDED]

1. The authority citation for part 67 continues to read as follows:

Authority: 42 U.S.C. 4001 et seq.; Reorganization Plan No. 3 of 1978, 3 CFR, 1978 Comp., p. 329; E.O. 12127, 44 FR 19367, 3 CFR, 1979 Comp., p. 376.

§ 67.11 [Amended]

2. The tables published under the authority of § 67.11 are amended as follows:

Source of flooding and location | #Depth in feet above ground. *Elevation in feet (NGVD) •Elevation in feet (NAVD)
MASSACHUSETTS
Chelmsford (Town), Middlesex County (FEMA Docket No. D-7548)
River Meadow Brook:
Downstream corporate limit | *105
Approximately 20 feet upstream of Mill Road | *117
Putnam Brook:
At confluence with River Meadow Brook | *112
Approximately 560 feet above confluence with River Meadow Brook | *112
Maps available for inspection at the Chelmsford Town Office, 50 Billerica Road, Chelmsford, Massachusetts.
OHIO
Bloomingburg (Village), Fayette County (FEMA Docket No. D-7580)
East Fork Paint Creek:
Upstream side of Midland Avenue (State Route 38) | •973
Approximately 0.5 mile upstream of State Route 38 | •974
Maps available for inspection at the Bloomingburg Village Hall, 62 Main Street, Bloomingburg, Ohio.
———
Fayette County (Unincorporated Areas) (FEMA Docket No. D-7528)
East Fork Paint Creek:
Approximately 300 feet upstream of confluence with Paint Creek | •954
Approximately 0.90 mile upstream of Greene Road | •1,026
Rattlesnake Creek:
At Milledgeville-Octa Road | •1,038
Approximately 130 feet upstream of State Route 734 | •1,058
Sugar Creek:
Approximately 150 feet downstream of Parrott Station Road | •1,026
Approximately 1,500 feet upstream of Main Street | •1,047
Maps available for inspection at the Fayette County Building Department, 121 E. East Street, Washington Court House, Ohio.
———
Octa (Village), Fayette County (FEMA Docket No. D-7528)
Rattlesnake Creek:
At the downstream side of Allen Road | •1,041
Approximately 175 feet upstream of Allen Road | •1,041
Maps available for inspection at the Village of Octa Council House, Allen Street, Milledgeville, Ohio.
———
Washington Court House (City), Fayette County (FEMA Docket No. D-7528)
East Fork Paint Creek:
Approximately 1,375 feet downstream of Washington Avenue | •954
Approximately 1.2 miles upstream of Washington Avenue | •959
Maps available for inspection at the Washington Court House City Hall, 105 North Main Street, Washington Court House, Ohio.

(Catalog of Federal Domestic Assistance No. 83.100, “Flood Insurance”)
Dated: November 18, 2003.
Anthony S. Lowe,
Mitigation Division Director, Emergency Preparedness and Response Directorate.

[FR Doc. 03-29356 Filed 11-24-03; 8:45 am]

BILLING CODE 9110-13-P